DEPARTMENT OF TRANSPORTATION

Office of the Secretary

Aviation Proceedings, Agreements Filed the Week Ending March 12, 2004

The following Agreements were filed with the Department of Transportation under the provisions of 49 U.S.C. 412 and 414. Answers may be filed within 21 days after the filing of the application.

Docket Number: OST-2004-17290.

Date Filed: March 10, 2004.

Parties: Members of the International Air Transport Association.

Subject: Mail Vote 363, PTC2 AFR 0145 dated 09 March 2004, TC2 Within Africa Resolution 002e r1, Intended effective date: 01 April 2004.

Docket Number: OST-2004-17291.

Date Filed: March 10, 2004.

Parties: Members of the International Air Transport Association.

Subject: Mail Vote 364, PTC2 AFR 0146 dated 09 March 2004, PTC2 Within Africa Resolutions r1-r23, Intended effective date: 01 May 2004.

Docket Number: OST-2004-17340.

Date Filed: March 12, 2004.

Parties: Members of the International Air Transport Association.

Subject: Mail Vote 365, PTC23 EUR-SASC 0125 dated 16 March 2004, TC23 Special Passenger Amending Resolution from Pakistan to Europe r1-r2, Intended effective date: 01 April 2004.

Andrea M. Jenkins,
Program Manager, Docket Operations, Federal Register Liaison.

[FR Doc. 04-6859 Filed 3-25-04; 8:45 am]

BILLING CODE 4910-62-P